DEPARTMENT OF TRANSPORTATION

Federal Railroad Administration

[Docket Number FRA-2020-0059]

Petition for Waiver of Compliance

Under part 211 of title 49 Code of Federal Regulations (CFR), this document provides the public notice that on July 10, 2020, the Association of American Railroads (AAR) petitioned the Federal Railroad Administration (FRA) for a waiver of compliance from certain provisions of the Federal railroad safety regulations contained at 49 CFR parts 213, 214, 217, 218, 220, 228, 232, 236, 240, 242, and 243. FRA assigned the petition Docket Number FRA-2020-0059.

AAR, on behalf of itself and its member railroads, requests to renew temporary social-distancing related emergency relief FRA previously granted by letter dated May 22, 2020, in its emergency relief docket (Docket Number FRA-2020-0002). See https://www.regulations.gov/document?D=FRA-2020-0002-0073. FRA renewed this relief for an additional 60 days on July 20, 2020. See https://www.regulations.gov/document?D=FRA-2020-0002-0093.

AAR also requests that FRA amend the conditions associated with the relief previously granted from 49 CFR 240.127(c)(5) in the emergency relief docket (FRA-2020-0002). As currently in effect, the relief from section 240.127(c)(5) allows railroads to use locomotive event recorder downloads to meet the requirements for periodic locomotive engineer skills rides to support the recertification of locomotive engineers, provided certain conditions are met. First, the relief is limited to situations where all other recertification activities are complete (e.g., vision and hearing screening). The waiver is also limited to situations where a locomotive engineer's recertification becomes due during the waiver period. AAR asserts that these two conditions limit “the ability of railroads to use event recorder data to comply with” section 240.127(c)(5). Accordingly, AAR asks FRA to eliminate these two conditions in any relief granted.

In support of its petition, AAR references the recommendations from the U.S. Centers for Disease Control and Prevention (CDC) and State and local governments to practice social distancing to reduce the spread of coronavirus disease 2019 (COVID-19). AAR further states that the granted relief would help railroads provide their employees with a safe working environment, which allows the Nation's essential railroad network to continue operations. Additionally, AAR asserts that the relief has not jeopardized the safety of railroad operations. AAR explains it anticipates needing such relief so long as CDC guidance recommending social distancing remains in place.

A copy of the petition, as well as any written communications concerning the petition, is available for review online at www.regulations.gov (Docket Number FRA-2020-0059).

Interested parties are invited to participate in these proceedings by submitting written views, data, or comments. If any interested parties desire an opportunity for oral comment and a public hearing, they should notify FRA, in writing, before the end of the comment period and specify the basis for their request.

All communications concerning these proceedings should identify the appropriate docket number and may be submitted at http://www.regulations.gov. Follow the online instructions for submitting comments.

Communications received by September 4, 2020 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety Chief Safety Officer.

[FR Doc. 2020-17029 Filed 8-4-20; 8:45 am]

BILLING CODE 4910-06-P